DEPARTMENT OF THE INTERIOR

National Park Service

[NPS-WASO-NRNHL-DTS#-40050; PPWOCRADI0, PCU00RP14.R50000]

National Register of Historic Places; Notification of Pending Nominations and Related Actions

AGENCY: National Park Service, Interior.

ACTION: Notice.

SUMMARY: The National Park Service is soliciting electronic comments on the significance of properties nominated before April 12, 2025, for listing or related actions in the National Register of Historic Places.

DATES: Comments should be submitted electronically by May 16, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before April 12, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

MASSACHUSETTS

Norfolk County

Mother Brook Lower Mill Pond Historic District, 13 Berry Ln.; 171, 185, 202 Bussey St.; 222, 235, 243-245, 251 Colburn St.; 297, 303-307, 315-317/319 High St.; Maverick St. Dam, Colburn St. east of Bussey St., Bussey St. between Colburn Str. & Aiello Dr; Maverick St. between Colburn and High Sts., Dedham, SG100011841

NEW JERSEY

Hunterdon County

Old Mill Road truss bridge over the Wickecheoke Creek (Bridges of Delaware Township, Hunterdon County, New Jersey MPS) Old Mill Road, Delaware Township, MP100011839

Lower Creek Road truss bridge over the Wickecheoke Creek (Bridges of Delaware Township, Hunterdon County, New Jersey MPS), Lower Creek Road, Delaware Township, MP100011840

OHIO

Hamilton County

Steinkamp, Joseph G. House, 916 Suire Avenue, Cincinnati, SG100011835

Trumbull County

East Market Street School, 585 East Market Street, Warren, SG100011837

OREGON

Coos County

Mingus Park Community Building (Oregon New Deal Resources from the PWA or WPA, 1933-1943 MPS), 850 W Park Roadway (previously 910 W Park Roadway), Coos Bay, MP100011838

Malheur County

Owyhee Grocery, 2499 OR-201, Nyssa vicinity, SG100011836

SOUTH CAROLINA

Richland County

Middleburg Park Historic District, Middleburg Drive, St. Julian Place, Summit Place, and portions of Devonshire Drive and Forest Drive, Columbia, SG100011845

VIRGINIA

Roanoke INDEPENDENT CITY

Norfolk & Western Class A No. 1218 Locomotive, 303 Norfolk Ave. SW, Roanoke, SG100011843

Virginia Beach INDEPENDENT CITY

37th Street Cottages Historic District, 201, 203, 205 37th Street, Virginia Beach, SG100011842

WISCONSIN

Dane County

Gay Building, 14-16 North Carroll Street, Madison, SG100011844

Authority: Section 60.13 of 36 CFR part 60.

Sherry A. Frear,
Chief, National Register of Historic Places/National Historic Landmarks Program.

[FR Doc. 2025-07558 Filed 4-30-25; 8:45 am]

BILLING CODE 4312-52-P